DEPARTMENT OF THE INTERIOR

National Park Service

Jackson Hole Airport Use Agreement Extension, Environmental Impact Statement, Grand Teton National Park, Wyoming

AGENCY: National Park Service, Department of the Interior.

ACTION: Notice of Intent to prepare an Environmental Impact Statement for the Jackson Hole Airport Use Agreement Extension, Grand Teton National Park.

SUMMARY: Pursuant to the National Environmental Policy Act of 1969, 42 U.S.C. 4332(2)(C), the National Park Service is preparing an Environmental Impact Statement (EIS) for the Jackson Hole Airport Use Agreement Extension, Grand Teton National Park, Wyoming. This effort addresses a request from the Jackson Hole Airport Board to amend the use agreement between the Department of the Interior and the Airport Board in order to ensure that the airport remains eligible for funding through the Federal Aviation Administration (FAA). Alternatives to be considered include Alternative 1: No Action—The airport would continue operations under the existing use agreement which currently has an expiration date of April 27, 2033; Alternative 2: Extend Agreement—Jackson Hole Airport Board proposal to extend the use agreement for an additional two 10-year terms, bringing the expiration date to April 27, 2053; and Alternative 3: Update and Extend Agreement—Extend the use agreement for an additional two 10-year terms with minor modifications as mutually agreed to by the NPS and the Airport Board.

The Jackson Hole Airport is located on 533 acres of land within Grand Teton National Park. The airport operates under the terms and conditions of a 1983 use agreement between the Department of the Interior and the Jackson Hole Airport Board. The 1983 agreement was for a primary term of 30 years, with options for two 10-year extensions, both of which have been exercised. The agreement also includes a provision that further extensions, amendments, or modifications could be negotiated by the parties on mutually satisfactory terms, and that the parties agree that upon expiration of the agreement, a mutually satisfactory extension could be negotiated.

The FAA requires that airports have use agreements of 20 years or more in order to remain eligible for Airport Improvement Program funds. An extension of the existing use agreement is needed to provide assurance that the airport will remain eligible for funding beyond the year 2013.

In November 2006, a public scoping notice soliciting public comments was circulated describing the purpose and need for the project. Based on comments received and subsequent data gathered, the NPS has determined the preparation of an EIS is warranted. Preliminary EIS impact topics include: Natural soundscape, air quality, water quality, wildlife/T&E species, visual quality/dark skies, public health and safety, visitor use & experience, transportation planning, socioeconomics, park & airport operations.

DATES: The National Park Service will conduct further scoping for the draft alternatives and EIS for a period of 30-days beyond publication of this Notice of Intent. Previous scoping comments submitted will be considered and need not be resubmitted.

ADDRESSES: You may mail comments to: Jackson Hole Airport Use Agreement Extension, Superintendent's Office, Grand Teton National Park, PO Drawer 170, Moose, WY 83012. Electronic comments can be made online at http://parkplanning.nps.gov/grte.

FOR FURTHER INFORMATION CONTACT: Gary Pollock, Grand Teton National Park, PO Drawer 170, Moose, Wyoming 83012-0170, (370) 739-3428, gary_pollock@nps.gov.

SUPPLEMENTARY INFORMATION: Our practice is to make comments, including names and home addresses of respondents, available for public review during regular business hours. Before including your address, phone number, e-mail address, or other personal identifying information in your comment, you should be aware that your entire comment—including your personal identifying information—may be made publicly available at any time. While you can ask us in your comment to withhold your personal identifying information from public review, we cannot guarantee that we will be able to do so.

Dated: June 27, 2007.
Michael D. Snyder,
Regional Director, Intermountain Region, National Park Service.

[FR Doc. E7-15561 Filed 8-8-07; 8:45 am]

BILLING CODE 4312-CX-P